DEPARTMENT OF DEFENSE

Office of the Secretary

Proposed Collection; Comment Request

AGENCY: Office of the Under Secretary of Defense (Personnel and Readiness), DoD.

ACTION: Notice.

In compliance with section 3506(c)(2)(A) of the Paperwork Reduction Act of 1995, the Office of the Under Secretary of Defense (Personnel and Readiness) announces public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; (d) ways to minimize the burden of the information collection on respondents, including through the use of automated collection techniques or other forms of information technology.

DATES: Consideration will be given to all comments received by February 19, 2002.

ADDRESSES: Written comments and recommendations on the proposed information collection should be sent to the Office of the Under Secretary of Defense (Personnel and Readiness) (Force Management Policy), Defense Commissary Agency, Plans and Policy Directorate, Analysis and Evaluation Division, ATTN: Mr. Herman Weaver, 1300 E. Avenue, Fort Lee, Virginia 23801-6300.

FOR FURTHER INFORMATION CONTACT: To request information on this proposed information collection or to obtain a copy of the proposal and associated collection instruments, please write to the above address, or call (804) 734-8322.

Title and OMB Control Number: Commissary Evaluation and Utility Survey—Generic Clearance, OMB Control Number 0704-0407.

Needs and Uses: DeCA will conduct a variety of surveys to include, but not necessarily limited to customer satisfaction, transaction based comment cards, transaction based telephone interviews, commissary sizing, and patron migration. The information collection will provide customer perceptions, demographics, and will identify agency operations that need quality improvement, provide early detection of process or system problems, and focus attention on areas where customer service and functional training, new construction/renovations, and changes in existing operations that will improve service delivery.

Affected Public: Individuals or households.

Annual Burden Hours: 4,167.

Number of Respondents: 50,000.

Responses Per Respondent: 1.

Average Burden Per Response: 5.

Frequency: On occasion.

SUPPLEMENTARY INFORMATION:

Summary of Information Collection

(All respondents are authorized patrons by DoD regulations, unless otherwise described)

Commissary Sizing Survey

Surveys will support commissary renovation and new construction based on perceptions (aisles, bakery, fish, deli, etc.) of patrons and will include demographics and sale projections.

Possible Facility Sites

Patrons will input their answers to questions concerning where they would like new facility located, what configuration (mall, off-post, mini-marts, parking, etc.), and give their opinions on concerns that will affect their shopping experience. Will include demographics, population maps, and distribution centers.

Patron Migration Survey

These surveys will determine from our patrons which commissary they will migrate to and how sales will affect renovation of receiving facility. Surveys will assess other factors that may determine a need form mini-marts or other small grocery outlets.

BRAC and/or Closure Survey

These surveys will also be given to local townships affected by base closures and its economic impact on surrounding communities, local governments, small and large businesses. The information collected will allow decisions to be made about keeping commissaries open, although, the base has closed or some alternative store for those patrons affected.

Commissary Operational Surveys

These surveys will supply information on processes like TQM, Process Action Team objectives, internal coordination, and vender satisfaction. Also, how DeCA personnel and patrol services such as new computer systems for checking groceries, how long patron services such as new computer systems for checking groceries, how long patrons wait in line, store throughput and queuing, transaction based comment cards, and any new customer service DeCA may want to implement that will need patron support. The vehicle for any survey whether it is by interview or mailing will not burden the patron over fifteen minutes.

Market Basket Surveys

These surveys support the differences between commissary and private sector supermarket prices and the average savings to the commissary patron. Also, we can determine price differences between OCONUS and CONUS commissaries. The patron will give their perceptions on their savings in the commissary versus local supermarkets.

Awareness Surveys

These surveys allow the customer and DeCA to communicate with each other on issues that will make their shopping experience user-friendly. Telephones in aisles for price checks and location of products, TV videos in front of store for specials, market products, and educate patrons on their benefit are just a few areas to keep the patron informed. Customer service is making the patron aware of new and innovative alternatives to issues that will communicate their desires.

Dated: December 17, 2001.
L.M. Bynum,
Alternate OSD Federal Register Liaison Officer, Department of Defense.

[FR Doc. 01-31418 Filed 12-20-01; 8:45 am]

BILLING CODE 5001-08-M